DEPARTMENT OF HOUSING AND URBAN DEVELOPMENT

[Docket No. FR-5480-C-99]

Notice of Submission of Proposed Information Collection to OMB; Housing Choice Voucher Program Administrative Fee Study Pretest

AGENCY: Office of the Chief Information Officer, HUD.

ACTION: Notice.

SUMMARY: The proposed information collection requirement described below has been submitted to the Office of Management and Budget (OMB) for review, as required by the Paperwork Reduction Act. The Department is soliciting public comments on the subject proposal.

Correction

This request is for the clearance of on-site data collection from public housing agencies (PHAs) to test the methodology for the Housing Choice Voucher (HCV) Program Administrative Fee study. The purpose of the study is to collect accurate information on the costs of administering the HCV program across a representative sample of high performing and efficient PHAs and to use this information to develop a new administrative fee allocation formula for the HCV program. The study is proceeding in multiple phases. This request is for data collection to test the methodology for estimating program costs in the study. We propose to use two main methods for collecting cost data: (1) Measuring the time that front line staff spend working on the program and translating that time into costs using the salaries and benefits of the staff doing the work and adjusting for market factors; and (2) collecting information via interviews and document review on the overhead costs and other costs related to HCV program administration that cannot be captured by measuring staff time spent on the program. We will test these data collection approaches at between 5 and 10 PHAs across the country. The results of the pretest will be used to refine the methodology used for the full study of administrative fees with a larger sample of PHAs.

DATES: Comments Due Date: October 31, 2011.

ADDRESSES: Interested persons are invited to submit comments regarding this proposal. Comments should refer to the proposal by name and/or OMB approval Number (2528-0267) and should be sent to: HUD Desk Officer, Office of Management and Budget, New Executive Office Building, Washington, DC 20503; e-mail OIRA-Submission@omb.eop.gov fax: 202-395-5806.

FOR FURTHER INFORMATION CONTACT: Colette Pollard, Reports Management Officer, QDAM, Department of Housing and Urban Development, 451 Seventh Street, SW., Washington, DC 20410; e-mail Colette Pollard at Colette.Pollard@hud.gov; or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Housing Choice Voucher Program Administrative Fee Study Pretest.

OMB Approval Number: 2528-0267.

Form Numbers: None.

Description of the Need for the Information and Its Proposed Use: This request is for the clearance of on-site data collection from public housing agencies (PHAs) to test the methodology for the Housing Choice Voucher (HCV) Program Administrative Fee study. The purpose of the study is to collect accurate information on the costs of administering the HCV program across a representative sample of high performing and efficient PHAs and to use this information to develop a new administrative fee allocation formula for the HCV program. The study is proceeding in multiple phases. This request is for data collection to test the methodology for estimating program costs in the study. We propose to use two main methods for collecting cost data: (1) Measuring the time that front line staff spend working on the program and translating that time into costs using the salaries and benefits of the staff doing the work and adjusting for market factors; and (2) collecting information via interviews and document review on the overhead costs and other costs related to HCV program administration that cannot be captured by measuring staff time spent on the program. We will test these data collection approaches at between 5 and 10 PHAs across the country. The results of the pretest will be used to refine the methodology used for the full study of administrative fees with a larger sample of PHAs.

Frequency of Submission: Annually.

| Number of respondents | Annual responses | × | Hours per response | = | Burden hours
Reporting Burden | 12 | 294 |  | 0.348 |  | 1,248

Total Estimated Burden Hours: 1,248.

Status: Revision of a currently approved collection.

Authority: Section 3507 of the Paperwork Reduction Act of 1995, 44 U.S.C. 35, as amended.

Dated: September 27, 2011.
Colette Pollard,
Departmental Reports Management Officer, Office of the Chief Information Officer.

[FR Doc. 2011-25305 Filed 9-29-11; 8:45 am]

BILLING CODE 4210-67-P